DEPARTMENT OF ENERGY

Federal Energy Regulatory Commission

[Project No. 2376-048]

Appalachian Power Company; Notice of Application To Increase Water Withdraw and Construct Water Withdraw Facilty Pursuant to License Article 202 and Soliciting Comments, Motions To Intervene, Protests, and Recommendations

Take notice that the following hydroelectric application has been filed with the Federal Energy Regulatory Commission (Commission) and is available for public inspection:

a. Application Type: License amendment pursuant to article 202.

b. Project No: 2376-048.

c. Date Filed: July 31, 2013.

d. Applicant: Appalachian Power Company (licensee).

e. Name of Project: Reusens Hydroelectric Project.

f. Location: The Reusens Project is located on the James River near the town of Lynchburg, in Amherst and Bedford Counties, Virginia.

g. Filed Pursuant to: Federal Power Act, 16 U.S.C. 791a-825r.

h. Applicant Contact: Mr. Frank M. Simms, Hydro Supervisor—Plant Manager II, Appalachian Power Company, 40 Franklin Road, Roanoke, VA 24011. Phone 540-985-2875.

i. FERC Contact: Mr. Robert Ballantine at 202-502-6289, robert.ballantine@ferc.gov.

j. Deadline for filing comments, motions to intervene, protests, and recommendations: October 14, 2013.

The Commission strongly encourages electronic filing. Please file motions to intervene, protests, comments, or recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. Please include the project number (P-2376-048) on any comments, motions to intervene, protests, or recommendations filed.

k. Description of Request: Appalachian Power Company, licensee for the Reusens Hydroelectric Project, requests the Commission to amend license article 202 and the Commission's December 3, 2010, order approving non-project use of project waters. The Commission's December 3, 2010 order, authorizes the licensee to allow Amherst County Service Authority (ACSA) to install and operate a temporary water withdraw facility with a 2 million gallons per day (MGD) withdraw limit. The licensee is requesting the Commission grant it non-project use of project lands and waters for the ACSA to construct permanent water withdraw facilities within the project boundary and to increase the water withdraw limit from 2 MGD to a maximum of 3 MGD.

l. Locations of the Application: A copy of the application is available for inspection and reproduction at the Commission's Public Reference Room, located at 888 First Street NE., Room 2A, Washington, DC 20426, or by calling 202-502-8371. This filing may also be viewed on the Commission's Web site at http://www.ferc.gov using the “eLibrary” link. Enter the docket number excluding the last three digits in the docket number field to access the document. You may also register online at http://www.ferc.gov/docs-filing/esubscription.asp to be notified via email of new filings and issuances related to this or other pending projects. For assistance, call 866-208-3676 or email FERCOnlineSupport@ferc.gov, for TTY, call 202-502-8659. A copy is also available for inspection and reproduction at the address in item (h) above.

m. Individuals desiring to be included on the Commission's mailing list should so indicate by writing to the Secretary of the Commission.

n. Comments, Motions to Intervene, Protests, and Recommendations: Anyone may submit comments, motion to intervene, protests, or recommendations in accordance with the requirements of Rules of Practice and Procedure, 18 CFR 385.210, .211, .214. In determining the appropriate action to take, the Commission will consider all comments, protests, or recommendations filed, but only those who file a motion to intervene in accordance with the Commission's Rules may become a party to the proceeding. Any comments, motions to intervene, protests, or recommendations must be received on or before the specified comment date for the particular application (October 14, 2013).

o. Filing and Service of Responsive Documents: Any filing must (1) bear in all capital letters the title “COMMENTS”, “PROTESTS”, “RECOMMENDATIONS”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, protests, recommendations, or motions to intervene must set forth their evidentiary basis and otherwise comply with the requirements of 18 CFR 4.34(b). Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: September 12, 2013.
Kimberly D. Bose,
Secretary.

[FR Doc. 2013-22694 Filed 9-17-13; 8:45 am]

BILLING CODE 6717-01-P